DEPARTMENT OF TRANSPORTATION

National Highway Traffic Safety Administration

[Docket No. NHTSA-2010-0095; Notice 1]

Volkswagen Group of America, Inc., Receipt of Petition for Decision of Inconsequential Noncompliance

Volkswagen Group of America, Inc., (Volkswagen),¹ has determined that certain 2009 Model Year (MY) Audi A6 and S6 model passenger cars, 2010 MY Audi A6, S6, A5, A5 Cabrio, S5, S5 Cabrio, A4 and S4 passenger cars, and 2010 MY Audi Q5 multipurpose passenger vehicles (MPV) equipped with indirect Tire Pressure Monitoring Systems (TPMS), do not fully comply with paragraph S4.4 of Federal Motor Vehicle Safety Standard (FMVSS) No. 138, Tire Pressure Monitoring Systems. Volkswagen has filed an appropriate report pursuant to 49 CFR Part 573, Defect and Noncompliance Responsibility and Reports.

¹ Volkswagen Group of America, Inc. (Volkswagen) is a vehicle manufacturer incorporated under the laws of the State of New Jersey.

Pursuant to 49 U.S.C. 30118(d) and 30120(h) (see implementing rule at 49 CFR part 556), Volkswagen has petitioned for an exemption from the notification and remedy requirements of 49 U.S.C. Chapter 301 on the basis that this noncompliance is inconsequential to motor vehicle safety.

This notice of receipt of Volkswagen's petition is published under 49 U.S.C. 30118 and 30120 and does not represent any agency decision or other exercise of judgment concerning the merits of the petition.

Affected are approximately 58,292 2009 MY Audi A6 and S6 model passenger cars, 2010 MY Audi A6, S6, A5, A5 Cabrio, S5, S5 Cabrio, A4 and S4 passenger cars, and 2010 MY Audi Q5 MPV with indirect TPMS manufactured between October 17, 2008 and April 27, 2010.

The National Highway Traffic Safety Administration (NHTSA) notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 58,292 ² vehicles that have already passed from the manufacturer to an owner, purchaser, or dealer.

² Volkswagen's petition, which was filed under 49 CFR Part 556, requests an agency decision to exempt Volkswagen as a manufacturer from the notification and recall responsibilities of 49 CFR Part 573 for 58,292 of the affected vehicles. However, the agency cannot relieve Volkswagen distributors of the prohibitions on the sale, offer for sale, or introduction or delivery for introduction into interstate commerce of the noncompliant vehicles under their control after Volkswagen recognized that the subject noncompliance existed.

Paragraph S4.4 of FMVSS No. 138 require in pertinent part:

S4.4 TPMS Malfunction

(a) The vehicle shall be equipped with a tire pressure monitoring system that includes a telltale that provides a warning to the driver not more than 20 minutes after the occurrence of a malfunction that affects the generation or transmission of control or response signals in the vehicle's tire pressure monitoring system. The vehicle's TPMS malfunction indicator shall meet the requirements of either S4.4(b) or S4.4(c)

(b) Dedicated TPMS malfunction telltale. The vehicle meets the requirements of S4.4(a) when equipped with a dedicated TPMS malfunction telltale that:

(1) Is mounted inside the occupant compartment in front of and in clear view of the driver;

(2) Is identified by the word “TPMS” as described under the “Tire Pressure Monitoring System Malfunction” Telltale in table 1 of standard No. 101 (49 CFR 571.101);

(3) Continues to illuminate the TPMS malfunction telltale under the conditions specified in S4.4(a) for as long as the malfunction exists, whenever the ignition locking system is in the “On” (“Run”) position; and

(4) (i) Except as provided in paragraph (ii) each dedicated TPMS malfunction telltale must be activated as a check of lamp function either when the ignition locking system is activated to the “On” (“Run”) position when the engine is not running, or when the ignition locking system is in a position between “On” (“Run”) and “Start” that is designated by the manufacturer as a check position.

ii. The dedicated TPMS malfunction telltale need not be activated when a starter interlock is in operation.

(c) Combination low tire pressure/TPMS malfunction telltale. The vehicle meets the requirements of S4.4(a) when equipped with a combined Low Tire Pressure/TPMS malfunction telltale that:

(1) Meets the requirements of S4.2 and S4.3; and

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected. Multiple malfunctions occurring during any ignition cycle may, but are not required to, reinitiate the prescribed flashing sequence.

Volkswagen reported that the noncompliance was brought to their attention on October 15, 2009 and June 8, 2010, by the National Highway Traffic Safety Administration's (NHTSA) Office of Vehicle Safety Compliance (OVSC) regarding the results of OVSC's compliance test on a 2009 MY Audi A6 model passenger car to FMVSS No. 138.

After reviewing OVSC's test results Volkswagen determined that a noncompliance with FMVSS No. 138 existed in the OVSC tested vehicle as well as the other subject 2009 and 2010 MY vehicles. Volkswagen explained that the noncompliance is that the combination low tire pressure/TPMS malfunction telltale lamp (TPMS telltale lamp) does not remain illuminated during all scenarios required by paragraph S4.4 of FMVSS No. 138.

Volkswagen explained that when NHTSA tested the Audi A6 by driving it with three of the originally installed 245/40 RI8 tires and one incompatible 215/35 ZRI8 tire (7% smaller in diameter), the Electronic Stability System (ESC) will initially detect a malfunction and illuminate the ESC malfunction indicator telltale lamp (ESC telltale lamp). That ESC malfunction detection will also cause the TPMS malfunction telltale lamp to illuminate. Both telltale lamps will then remain illuminated during the rest of the ignition cycle independent of vehicle speed. When the ignition is subsequently cycled, both the ESC and TPMS telltale lamps will re-illuminate. Depending on the subsequent scenario of the drive cycle, the two telltale lamps can behave in different ways. The nonconforming scenario occurs when the vehicle is maintained at a speed range between 6.2-12.5 miles per hour (mph) for a period of time where the ESC malfunction logic code could be cleared from the control system and cause the ESC and TPMS telltale lamps to extinguish. If the 6.2-12.5 mph speed range is maintained for a longer period of time after the ESC and TPMS telltale lamps extinguish (about 5 minutes), the TPMS will recognize the incompatible tire and set the TPMS malfunction logic code and re-illuminate the TPMS telltale lamp. The TPMS telltale lamp will stay illuminated for as long as the incompatible tire is mounted, independent of any ESC malfunctions.

Volkswagen argues that this noncompliance is inconsequential to motor vehicle safety for the following reasons:

1. The TPMS telltale lamp will immediately re-illuminate if the vehicle is accelerated above 12.5 mph, and remain on throughout the ignition cycle regardless of the vehicles speed.

2. The TPMS telltale lamp would re-illuminate within several minutes (about 5 minutes) if the speed under 12.5 mph and over 6.2 mph was maintained.

3. The function of the TPMS telltale lamp given this condition would never lead to a “flicker” of the light or other such confusing performance of the signal except as required in FMVSS No. 138 S4.4(c).

4. Operation of the vehicle with an incompatible tire for a short distance under 12.5 mph presents no safety risk. Given that the TPMS telltale lamp would re-illuminate promptly upon the TPMS recognizing the incompatible tire at a lower speed or upon acceleration, the chance is insignificant that a driver might be confused by the signal, or even notice it.

5. Volkswagen is not aware of any field or customer complaints regarding this noncompliance.

Volkswagen also informed NHTSA that it has corrected the problem that caused this noncompliance so that it will not be repeated in future production.

In summation, Volkswagen believes that the described noncompliance of its vehicles to meet the requirements of FMVSS No. 138 is inconsequential as it relates to motor vehicle safety, and that its petition, to exempt from providing recall notification of noncompliance as required by 49 U.S.C. 30118 and remedying the recall noncompliance as required by 49 U.S.C. 30120 should be granted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 am to 5 pm except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 10, 2010.

Authority: 49 U.S.C. 30118, 30120: delegations of authority at CFR 1.50 and 501.8.

Issued on: August 2, 2010.
Claude H. Harris,
Director, Office of Vehicle Safety Compliance.

[FR Doc. 2010-19764 Filed 8-10-10; 8:45 am]

BILLING CODE 4910-59-P